DEPARTMENT OF HOMELAND SECURITY

Coast Guard

[USCG-2006-25106]

Agency Contact Phone Numbers for Coast Guard Regulatory Projects and Federal Advisory Committees

AGENCY: Coast Guard, DHS.

ACTION: Notice.

SUMMARY: The Coast Guard announces that the majority of the agency contact phone numbers for its regulatory projects and Federal advisory committees have changed. This notice provides the current agency contact phone numbers for our on-going regulatory projects listed in the spring 2006 Unified Agenda and for our advisory committees.

DATES: Comments in response to this notice should reach the Docket Management Facility on or before September 21, 2006.

ADDRESSES: You may submit comments identified by Coast Guard docket number USCG-2006-25106 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call James McLeod, Office of Regulations and Administrative Law, Coast Guard, telephone 202-372-3864 or 202-372-3868. If you have questions on viewing or submitting material to the docket, call Renee V. Wright, Program Manager, Docket Operations, telephone 202-493-0402.

SUPPLEMENTARY INFORMATION:

Background and Purpose

When we publish information about our regulatory projects or notices about our Federal advisory committees, we include the name of a Coast Guard employee who you may contact to ask questions about the project or committee. We refer to this person as the agency contact.

Because new telephone and fax numbers have been assigned to the majority of agency contacts for Coast Guard regulatory projects and its Federal advisory committees, we are publishing this notice to provide these new numbers to you.

To increase the utility of this notice, we have included all the current phone numbers for our on-going regulatory projects listed in the spring 2006 Unified Agenda (71 FR 22672-688, April 24, 2006) and for our advisory committees. Most of the new phone numbers are for agency contacts based in Coast Guard Headquarters in Washington, DC, and begin with “202-372-”.

The following list contains the current agency contact phone numbers for ongoing rulemaking projects listed in the spring 2006 Unified Agenda:

• Administrative Changes to Numbering of Vessels and Reporting of Casualties (USCG-2003-14963; RIN 1625-AA70): Jeanne Timmons, Project Manager, Office of Boating Safety, Program Management Division, G-PCB-1, 202-267-1077.

• Alternate Compliance Program:Vessel Inspection Alternatives (RIN 1625-AA92): Lieutenant William Nabach, Project Manager, Office of Design and Engineering Standards, Naval Architecture Division, G-PSE-2, 202-372-1367.

• Cargo Securing on Vessels Operating in U.S. Waters (USCG-2000-7080; RIN 1625-AA25): David H. Dolloff, Project Manager, Office of Operating and Environmental Standards, Vessel and Facility Operating Standards Division, G-PSO-2, 202-372-1415.

• Claims Procedures Under the Oil Pollution Act of 1990 (USCG-2004-17697; RIN 1625-AA03): Benjamin White, Project Manager, National Pollution Funds Center, 202-493-6863.

• Commercial Diving Operations (USCG-1998-3786; RIN 1625-AA21): David Dolloff, Project Manager, Office of Operating and Environmental Standards, Vessel and Facility Operating Standards Division, G-PSO-2, 202-372-1415.

• Commercial Fishing Industry Vessels (USCG-2003-16158; RIN 1625-AA77): Mr. Mike Rosecrans, Project Manager, Office of Vessel Activities, Fishing Vessel Safety Division, G-PCV-3, 202-372-1245.

• Deepwater Ports (USCG-1998-3884; RIN 1625-AA20): Kevin Tone, Project Manager, Office of Operating and Environmental Standards, Deepwater Ports Standards Division, G-PSO-5, 202-372-1441.

• Discharge-Removal Equipment for Vessels Carrying Oil (CGD 90-068; RIN 1625-AA02): David A. DuPont, Project Manager, Office of Standards Evaluation and Development, Budget and Resources Division, G-PSR-2, 202-372-1497.

• Drawbridge Operations Regulations; Revisions (USCG-2001-10881; RIN 1625-AA36): J. Christopher Jaufmann, Project Manager, Office of Bridge Administration, Alterations Division, G-PWB-1, 202-267-0377.

• Drawbridge Regulations (RIN 1625-AA09): Alesia Steinberger, Project Manager, Office of Bridge Administration, Alterations Division, G-PWB-1, 202-267-6215.

• Dry Cargo Residue Discharges in the Great Lakes (USCG-2004-19621; RIN 1625-AA89): Lieutenant Commander Mary Sohlberg, Project Manager, Office of Operating and Environmental Standards, Environmental Standards Division, G-PSO-4, 202-372-1429.

• Escort Vessels in Certain U.S. Waters (CGD 91-202a; RIN 1625-AA10): Lieutenant Vivianne Louie, Project Manager, Office of Design and Engineering Standards, Human Element and Ship Design Division, G-PSE-1, 202-372-1358.

• Federal Requirements for Propeller Injury Avoidance Measures (USCG 2001-10163; RIN 1625-AA31): Dan McCormick, Project Manager, Office of Boating Safety, Recreational Boating Division, G-PCB-3, 202-267-1077.

• Implementation of the 1995 Amendments to the International Convention on Standards of Training, Certification, and Watchkeeping (STCW) for Seafarers, 1978 (CGD 95-062; RIN 1625-AA16): Mark Gould, Project Manager, Office of Operating and Environmental Standards, Maritime Personnel Qualifications Division, G-PSO-1, 202-372-1409.

• Improvements to Maritime Safety in Puget Sound-Area Waters (USCG-1998-4501; RIN 1625-AA22): Lieutenant Vivianne Louie, Project Manager, Office of Design and Engineering Standards, Human Element and Ship Design Division, G-PSE-1, 202-372-1358.

• Limited Service Domestic Voyage Load Lines for River Barges on Lake Michigan (USCG-1998-4623; RIN 1625-AA17): Thomas Jordan, Project Manager, Office of Design and Engineering Standards, Naval Architecture Division, G-PSE-2, 202-372-1370.

• Long Range Identification and Tracking of Vessels (RIN 1625-AB00): William Cairns, Office of Navigation Systems, G-PWN, 202-372-1557.

• Marine Transportation-Related Facility Response Plans for Hazardous Substances (USCG-1999-5705; RIN 1625-AA12): Lieutenant Commander Robert Smith, Project Manager, Office of Vessel Activities, G-PCV, 202-267-2616.

• Navigation Equipment; SOLAS Chapter V Amendments (USCG-2004-19588; RIN 1625-AA91): Lieutenant Commander James Rocco, Project Manager, Office of Navigation Systems, Navigation Standards Division, G-PWN-4, 202-372-1565; Dolores Mercier, Project Manager, Office of Design and Engineering Standards, Systems Engineering Division, G-PSE-3, 202-372-1381.

• Notification of Arrival in U.S. Ports; Certain Dangerous Cargoes; Electronic Submission (USCG-2004-19963; RIN 1625-AA93): Lieutenant Junior Grade Julie Miller, Project Manager, Office of Vessel Activities, Foreign and Offshore Vessel Activities Division, G-PCV-2, 202-372-1244.

• Numbering of Undocumented Barges (USCG-1998-3798; RIN 1625-AA14): Patricia Williams, Project Manager, National Vessel Documentation Center, 304-271-2506.

• Oil Spill Liability Trust Fund Consumer Price Index (CPI) Adjustment of Vessel Limits of Liability (RIN 1625-AA98): Benjamin White, Project Manager, National Pollution Funds Center, 202-493-6863.

• Outer Continental Shelf Activities (USCG-1998-3868; RIN 1625-AA18): James Magill, Project Manager, Office of Operating and Environmental Standards, Vessel and Facility Operating Standards, G-PSO-2, 202-372-1414.

• Pollution Prevention Equipment (USCG-2004-18939; RIN 1625-AA90): Lieutenant William Nabach, Project Manager, Office of Design and Engineering Standards, Systems Engineering Division, G-PSE-3, 202-372-1367.

• Protection for Whistle Blowers in the Coast Guard (USCG-2002-13016; RIN 1625-AA50): Lieutenant Patrick Grace, Project Manager, Office of the Judge Advocate General, Office of General Law, G-LGL, 202-372-3757.

• Rates for Pilotage on the Great Lakes (USCG-2002-11288; RIN 1625-AA38): Paul Wasserman, Project Manager, Office of Maritime Transportation Systems, Great Lakes Pilotage Division, G-PWM-2, 202-372-1535.

• Regatta and Marine Parade Regulations (RIN 1625-AA08): Jeff Ludwig, Project Manager, Office of Boating Safety, Program Management Division, G-PCB-1, 202-267-1077.

• Regulated Navigation Areas (RIN 1625-AA11): Ed LaRue, Project Manager, Office of Navigation Systems, G-PWN, 202-372-1564.

• Review and Update of Standards for Marine Equipment (USCG-2003-16630; RIN 1625-AA83): Commander Anthony Wiest, Project Manager, Office of Design and Engineering Standards, G-PSE, 202-372-1375.

• Rules of Practice, Procedure, and Evidence for Administrative Proceedings of the Coast Guard (USCG 1998-3472; RIN 1625-AA59): George Jordan, Project Manager, Chief Administrative Law Judge, G-CJ, 202-267-2940.

• Safety Zone Regulations (RIN 1625-AA00): George Detweiler, Project Manager, Office of Navigation Systems, G-PWN, 202-372-1566.

• Salvage and Marine Firefighting Requirements; Vessel Response Plans for Oil (USCG-1998-3417; RIN 1625-AA19): Lieutenant Commander Reed Kohberger, Project Manager, Office of Vessel Activities, G-PCV, 202-372-1471.

• Security Zone Regulations (RIN 1625-AA87): Commander Tina Burke, Project Manager, Office of Port and Facility Activities, Domestic Ports Division, G-PCP-1, 202-267-4143.

• Special Anchorage Areas/Anchorage Grounds Regulations (RIN 1625-AA01): Ed LaRue, Project Manager, Office of Navigation Systems, G-PWN, 202-372-1564.

• Standards for Living Organisms in Ships' Ballast Water Discharged in U.S. Waters (USCG-2001-10486; RIN 1625-AA32): Bivan Patnaik, Project Manager, Office of Operating and Environmental Standards, Environmental Standards Division, G-PSO-4, 202-372-1435.

• State Access to the Oil Spill Liability Trust Fund (USCG-2004-19123; RIN 1625-AA06): Benjamin White, Project Manager, National Pollution Funds Center, 202-493-6863.

• Tank Vessel Response Plans for Hazardous Substances (USCG-1998-4354; RIN 1625-AA13): Lieutenant Commander Rob Smith, Project Manager, Office of Vessel Activities, G-PCV, 202-267-2616.

• Traffic Separation Schemes: In the Strait of Juan De Fuca and Its Approaches; In Puget Sound and Its Approaches; In Haro Strait, Boundary Pass, and in the Strait of Georgia (USCG-2002-12702; RIN 1625-AA48): George Detweiler, Project Manager, Office of Navigation Systems, G-PWN, 202-372-1566.

• Validation of Merchant Mariners' Vital Information and Issuance of Coast Guard Merchant Mariner's Documents (MMDs) (USCG-2003-14500; RIN 1625-AA81): Gerald P. Miante, Project Manager, Office of Operating and Environmental Standards, Maritime Personnel Qualifications Division, G-PSO-1, 202-372-1401.

• Validation of Merchant Mariners' Vital Information and Issuance of Coast Guard Merchant Mariner's Licenses and Certificates of Registry (USCG-2004-17455; RIN 1625-AA85): Gerald P. Miante, Project Manager, Office of Operating and Environmental Standards, Maritime Personnel Qualifications Division, G-PSO-1, 202-372-1401.

• Vapor Control Systems (RIN 1625-AB01): Sara Ju, Project Manager, Office of Operating and Environmental Standards, Hazard Materials Standards Division, G-PSO-3, 202-372-1425.

• Vessel and Facility Response Plans for Oil: 2003 Removal Equipment Requirements and Alternative Technology Revisions (USCG-2001-8661; RIN 1625-AA26): Lieutenant Commander Robert Smith, Project Manager, Office of Vessel Activities, G-PCV, 202-267-2616.

• Vessel Documentation: Lease Financing for Vessels Engaged in the Coastwise Trade (RIN 1625-AA95): Thomas Willis, Project Manager, National Vessel Documentation Center, 304-271-2506.

• Vessel Requirements for Notices of Arrival and Departure, and Automatic Identification System (USCG-2005-21869; RIN 1625-AA99): Lieutenant Junior Grade Julie Miller, Project Manager, Office of Vessel Activities, Foreign and Offshore Vessel Activities Division, G-PCV-2, 202-372-1244; Jorge Arroyo, Project Manager, Office of Navigation Systems, G-PWN, 202-372-1563.

• Vessel Traffic Service Lower Mississippi River (USCG-1998-4399; RIN 1625-AA58): Jorge Arroyo, Project Manager, Office of Navigation Systems, G-PWN, 202-372-1563.

• Waiver for Marking Sunken Vessels with Light at Night (USCG-2005-20488; RIN 1625-AA97): Lieutenant Christian Munoz, Project Manager, Office of Navigation Systems, Visual Navigation Division, G-PWN-1, 202-267-1386.

• Wearing of Personal Flotation Devices by Persons Operating or Riding on Personal Watercraft, Water Skiing, or Engaging in Other Forms of Towing Persons Behind Recreational Vessels (USCG-2002-11421; RIN 1625-AA40): Jeanne Timmons, Project Manager, Office of Boating Safety, Program Management Division, G-PCB-1, 202-267-1077.

The following list contains the current agency contact phone numbers for our 11 Federal advisory committees:

• Chemical Transportation Advisory Committee: Commander Robert J. Hennessy, Executive Director, or Ms. Sara Ju, Assistant to the Executive Director, telephone 202-372-1425, fax 202-372-1926.

• Commercial Fishing Industry Vessel Safety Advisory Committee: Captain Michael B. Karr, Executive Director, or Mr. Mike Rosecrans, Assistant to the Executive Director, telephone at 202-372-1251, fax 202-372-1917.

• Great Lakes Pilotage Advisory Committee: Mr. John Bobb; Executive Secretary, telephone 202-372-1532, fax 202-372-1929.

• Houston-Galveston Navigation Safety Advisory Committee: Commander Jerry Torok, Executive Secretary, telephone 713-671-5164.

• Lower Mississippi River Waterway Safety Advisory Committee: Assistant Committee Administrators Ensign Ashana Hopson, 504-219-2780, or Lieutenant Junior Grade Thao Nguyen, 504-219-2782.

• Merchant Marine Personnel Advisory Committee: Mr. Mark Gould, Assistant to the Executive Director, telephone 202-372-1409, fax 202-372-1926.

• National Boating Safety Advisory Council: Ms. Jeanne Timmons, Executive Director, or Jeff Ludwig, Executive Secretary, telephone 202-267-1077, fax 202-267-4285.

• National Maritime Security Advisory Committee: Mr. John Bastek, Executive Secretary, telephone 202-267-2722, fax 202-267-4130.

• National Offshore Safety Advisory Committee: Commander J.M. Cushing, Executive Director, telephone 202-372-1410 or Mr. Jim Magill, Assistant to the Executive Director, telephone 202-372-1414, fax 202-372-1926.

• Navigation Safety Advisory Council: Mr. John Bobb, Executive Secretary, telephone 202-372-1532, fax 202-372-1929.

• Towing Safety Advisory Committee: Mr. Gerald Miante, Assistant Executive Director, telephone 202-372-1401, fax 202-372-1926.

Comments

We encourage you to submit comments on this notice. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-25106) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Dated: June 20, 2006.
Stefan G. Venckus,
Chief, Office of Regulations and Administrative Law, United States Coast Guard.

[FR Doc. E6-9968 Filed 6-22-06; 8:45 am]

BILLING CODE 4910-15-P